SMALL BUSINESS ADMINISTRATION

[Disaster Declaration #14102]

Missouri Disaster #MO-00072 Declaration of Economic Injury

AGENCY: U.S. Small Business Administration.

ACTION: Notice.

SUMMARY: This is a notice of an Economic Injury Disaster Loan (EIDL) declaration for the State of Missouri, dated 09/03/2014.

Incident: Civil Unrest.

Incident Period: 08/09/2014 and continuing.

Effective Date: 09/03/2014.

EIDL Loan Application Deadline Date: 06/03/2015.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street SW., Suite 6050, Washington, DC 20416.

SUPPLEMENTARY INFORMATION: Notice is hereby given that as a result of the Administrator's EIDL declaration, applications for economic injury disaster loans may be filed at the address listed above or other locally announced locations.

The following areas have been determined to be adversely affected by the disaster:

Primary Counties: Saint Louis.

Contiguous Counties:

Missouri: Franklin, Jefferson, Saint Charles, Saint Louis City.

Illinois: Madison, Monroe, Saint Clair.

The Interest Rates are:

| Percent
Businesses And Small Agricultural Cooperatives Without Credit Available Elsewhere | 4.000
Non-Profit Organizations Without Credit Available Elsewhere | 2.625

The number assigned to this disaster for economic injury is 141020.

The States which received an EIDL Declaration # are Missouri, Illinois.

(Catalog of Federal Domestic Assistance Number 59002)

Dated: September 3, 2014.
Maria Contreras-Sweet,
Administrator.

[FR Doc. 2014-21436 Filed 9-8-14; 8:45 am]

BILLING CODE 8025-01-P